DEPARTMENT OF HOMELAND SECURITY

Federal Emergency Management Agency

[Docket ID: FEMA-2021-0022; OMB No. 1660-0062]

Agency Information Collection Activities: Proposed Collection; Comment Request; State/Local/Tribal Hazard Mitigation Plans

AGENCY: Federal Emergency Management Agency, Department of Homeland Security.

ACTION: 60-Day notice of revision and request for comments.

SUMMARY: The Federal Emergency Management Agency (FEMA), as part of its continuing effort to reduce paperwork and respondent burden, invites the general public to take this opportunity to comment on a revision of a currently approved information collection. In accordance with the Paperwork Reduction Act of 1995, this notice seeks comments concerning the nature of the information collection, the categories of respondents, the estimated burden (i.e., the time, efforts and resources used by respondents to respond) and cost, and actual data collection instruments FEMA will use regarding the state, local, and tribal hazard mitigation plan creation process.

DATES: Comments must be submitted on or before November 15, 2021.

ADDRESSES: Submit comments at www.regulations.gov under Docket ID FEMA-2021-0022. Follow the instructions for submitting comments.

All submissions received must include the agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Kathleen Smith, Planning & Safety Branch Chief, Planning, Safety, and Building Science Division, Risk Management Directorate, Federal Insurance and Mitigation Administration, FEMA; Kathleen.Smith2@fema.dhs.gov and (202) 646-4372. You may contact the Information Management Division for copies of the proposed collection of information at email address: FEMA-Information-Collections-Management@fema.dhs.gov.

SUPPLEMENTARY INFORMATION: Section 322 of the Robert T. Stafford Disaster Relief and Emergency Assistance Act (Stafford Act), 42 U.S.C. 5165, as amended by the Disaster Mitigation Act of 2000 (DMA 2000), Public Law 106-390, provides the framework for linking pre-and post-disaster mitigation planning and initiatives with public and private interests to ensure an integrated, comprehensive approach to disaster loss reduction. Title 44 CFR part 201 provides the mitigation planning requirements for State, local, Tribal, or Territorial governments to identify the natural hazards that impact them, to identify actions and activities to reduce any losses from hazards, and to establish a coordinated process to implement the plan, taking advantage of a wide range of resources.

Collection of Information

Title: State/Local/Tribal Hazard Mitigation Plans.

Type of Information Collection: Revision of a currently approved information collection.

OMB Number: 1660-0062.

FEMA Forms: FEMA Form not applicable.

Abstract: In order to be eligible for certain types of Federal emergency management non-emergency assistance, state, local, Tribal or Territorial governments are required to have a current FEMA-approved hazard mitigation plan that meets the criteria established in 44 CFR part 201.

Affected Public: State, local, Tribal or Territorial government.

Estimated Number of Respondents: 224.

Estimated Number of Responses: 1,131.

Estimated Total Annual Burden Hours: 175,928.

Estimated Total Annual Respondent Cost: $10,291,788.

Estimated Respondents' Operation and Maintenance Costs: $30,760,976.

Estimated Respondents' Capital and Start-Up Costs: $10,497,648.

Estimated Total Annual Cost to the Federal Government: $1,936,738.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Acting Records Management Branch Chief, Office of the Chief Administrative Officer, Mission Support, Federal Emergency Management Agency, Department of Homeland Security.

[FR Doc. 2021-19750 Filed 9-13-21; 8:45 am]

BILLING CODE 9110-12-P